DEPARTMENT OF DEFENSE

Office of the Secretary

Defense Advisory Committee on Diversity and Inclusion; Notice of Federal Advisory Committee Meeting

AGENCY: Under Secretary of Defense for Personnel and Readiness, Department of Defense (DoD).

ACTION: Notice of Federal advisory committee meeting.

SUMMARY: The DoD is publishing this notice to announce that the following Federal Advisory Committee meeting of the Defense Advisory Committee on Diversity and Inclusion (DACODAI) will take place.

DATES: DACODAI will hold an open to the public meeting—Thursday, May 11, 2023 from 11:45 a.m. to 4:30 p.m. (EST) and Friday, May 12, 2023 from 8:15 a.m. to 12:45 p.m.

ADDRESSES: The meeting will be held in person at the Association of the United States Army (AUSA) Convention Center, Arlington, VA, 2425 Wilson Blvd., Arlington, VA 22201; https://www.ausa.org/directions. The meeting will also be available via videoconference at https://defenseculture-mil.zoomgov.com/j/16155802842 and via telephone at +1 551 285 1373; Meeting ID: 161 5580 2842. Participant access information will be provided after registering. Pre-meeting registration is required. See guidance in SUPPLEMENTARY INFORMATION, “Meeting Accessibility.”

FOR FURTHER INFORMATION CONTACT: Ms. Shirley Raguindin, (571) 645-6952 (voice), osd.mc-alex.ousd-p-r.mbx.dacodai@mail.mil (email). The most up-to-date changes to the meeting agenda can be found on the website: https://www.dhra.mil/DMOC/DACODAI.

SUPPLEMENTARY INFORMATION: This meeting is being held under the provisions of chapter 10 of title 5, U.S.C. (commonly known as the “Federal Advisory Committee Act” or “FACA”), section 552b of title 5, U.S.C. (commonly known as the “Government in the Sunshine Act”), and 41 CFR 102-3.140 and 102-3.150.

Availability of Materials for the Meeting: Additional information, including the agenda or any updates to the agenda, is available on the DACODAI website https://www.dhra.mil/DMOC/DACODAI. Materials presented in the meeting may also be obtained on the DACODAI website.

Purpose of the Meeting: The purpose of the meeting is for the DACODAI to receive briefings and have discussions on topics related to the racial/ethnic diversity, inclusion, and equal opportunity within the Armed Forces of the United States.

Agenda: Thursday May 11, 2023, from 11:45 a.m. to 4:30 p.m. DACODAI will begin in open session with opening remarks by Ms. Shirley Raguindin, the Designated Federal Officer (DFO) and the DACODAI's Chair, Gen. (Ret.) Lester Lyles. The DACODAI will receive briefings by the Military Components on the progress of diversity and inclusion. Closing remarks by the Chair, Gen. (Ret.) Lyles and the DFO will adjourn the meeting for the day. Friday, May 12, 2023, from 8:15 a.m. to 12:45 p.m. will include continued briefings by the Military Components on the progress of diversity and inclusion, a briefing on the Status of Forces Survey Findings on Why Military Members Leave the Armed Forces by Ms. Carol Newell, Deputy Director, Retention & Readiness Center, of the Defense Personnel Analytics Center. Closing remarks by the Chair, Gen. (Ret.) Lyles and the DFO will adjourn the meeting.

Meeting Accessibility: Pursuant to 5 U.S.C. 552b and 41 CFR 102-3.140 through 102-3.165, this meeting is open to the public from 11:45 a.m. to 4:30 p.m. (EST) on May 11, 2023 and from 8:15 a.m. to 12:45 p.m. (EST) on May 12, 2023. The meeting will be held in person at the AUSA Convention Center, 2425 Wilson Blvd., Arlington, VA 22201, with directions at https://www.ausa.org/directions. The meeting will also be available via by videoconference at https://defenseculture-mil.zoomgov.com/j/16155802842 and via telephone at +1 551 285 1373; Meeting ID: 161 5580 2842. Participant access information will be provided after registering. The number of participants is limited and is on a first-come basis. Any member of the public who wish to participate must register by contacting DACODAI at osd.mc-alex.ousd-p-r.mbx.dacodai@mail.mil or by contacting Ms. Shirley Raguindin at (571) 645-6952 no later than Thursday, May 4, 2023 (by 5:00 p.m. EST). Once registered, the videoconference information and/or audio number will be provided.

Special Accommodations: Individuals requiring special accommodations to access the public meeting should contact Ms. Shirley Raguindin at shirley.s.raguindin.civ@mail.mil (email) or (571) 645-6952 (voice) no later than Thursday, May 4, 2023, so that appropriate arrangements can be made.

Written Statements: Pursuant to 41 CFR 102-3.140(c), and section 10(a)(3) of the FACA, the public or interested parties may submit a written statement to the DACODAI. Individuals submitting a written statement must submit their statement no later than 5:00 p.m., Thursday, May 4, 2023, to Ms. Shirley Raguindin (571) 645-6952 (voice) or to shirley.s.raguindin.civ@mail.mil (email).

Mailing address is Attention DACODAI, Ms. Shirley Raguindin, 4800 Mark Center Drive, Suite 06E22, Alexandria, VA 22350. Members of the public interested in making an oral statement, must submit a written statement. If a statement is not received by Thursday, May 4, 2023, it may not be provided to, or considered by the DACODAI during this biannual business meeting. After reviewing the written statements, the Chair and the DFO will determine if the requesting persons are permitted to make an oral presentation. The DFO will review all timely submissions with the DACODAI Chair and ensure they are provided to the members of the DACODAI.

Members of the public may also email written statements at osd.mc-alex.ousd-p-r.mbx.dacodai@mail.mil. Written statements pertaining to the meeting agenda for the DACODAI's meeting on May 11-12, 2023, must be submitted no later than 5:00 p.m. EST, Thursday, May 4, 2023, to be considered by the DACODAI membership prior to its May 11-12, 2023 meeting.

Dated: April 18, 2023.
Aaron T. Siegel,
Alternate OSD Federal Register Liaison Officer, Department of Defense.

[FR Doc. 2023-08517 Filed 4-21-23; 8:45 am]

BILLING CODE 5001-06-P